DEPARTMENT OF TRANSPORTATION

Federal Aviation Administration

14 CFR Part 39

[Docket No. FAA-2010-0228; Directorate Identifier 2009-NM-252-AD]

RIN 2120-AA64

Airworthiness Directives; McDonnell Douglas Corporation Model MD-11 and MD-11F Airplanes

AGENCY: Federal Aviation Administration (FAA), DOT.

ACTION: Supplemental notice of proposed rulemaking (NPRM); reopening of comment period.

SUMMARY: We are revising an earlier proposed airworthiness directive (AD) for the products listed above. That NPRM proposed a one-time inspection to detect damage of the wire assemblies of the tail tank fuel system, a wiring change, and corrective actions if necessary. That NPRM was prompted by fuel system reviews conducted by the manufacturer. This action revises that NPRM by adding, for certain airplanes, a general visual inspection for correct installation of the self-adhering, high-temperature electrical insulation tape; installation of a wire assembly support bracket and routing wire assembly; changing wire supports; and installation of a wire protection bracket. We are proposing this supplemental NPRM to detect and correct a potential of ignition sources inside fuel tanks, which, in combination with flammable vapors, could result in a fuel tank fire or explosion, and consequent loss of the airplane.

DATES: We must receive comments on this supplemental NPRM by December 13, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Serj Harutunian, Aerospace Engineer, Propulsion Branch, ANM-140L, FAA, Los Angeles Aircraft Certification Office, 3960 Paramount Boulevard, Lakewood, California 90712-4137; telephone (562) 627-5254; fax (562) 627-5210; e-mail: Serj.Harutunian@faa.gov.

SUPPLEMENTARY INFORMATION:

Comments Invited

We invite you to send any written relevant data, views, or arguments about this proposed AD. Send your comments to an address listed under the ADDRESSES section. Include “Docket No. FAA-2010-0228; Directorate Identifier 2009-NM-252-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an airworthiness directive (AD) that would apply to certain McDonnell Douglas Corporation Model MD-11 and MD-11F airplanes. That NPRM was published in the Federal Register on March 16, 2010 (75 FR 12464). That NPRM proposed to require a one-time inspection to detect damage of the wire assemblies of the tail tank fuel system, a wiring change, and corrective actions if necessary.

Comments

We gave the public the opportunity to comment on the previous NPRM. The following presents the comments received on the NPRM and the FAA's response to each comment.

Request To Incorporate Revised Service Bulletin

Boeing requested that we modify the original NPRM to reference Boeing Alert Service Bulletin MD11-28A124, Revision 1, dated August 24, 2010, which clarifies work instructions and screw length requirements.

We agree. We have revised paragraphs (c), (g), and (h) of this supplemental NPRM to refer to Boeing Alert Service Bulletin MD11-28A124, Revision 1, dated August 24, 2010. The revised service bulletin adds a general visual inspection of the self-adhering high-temperature electrical insulation tape for correct installation, and changes wire supports, on airplanes on which the actions specified in Boeing Alert Service Bulletin MD11-28A124, dated June 17, 2009, have been accomplished.

Request To Incorporate Information Notice

FedEx requested that Boeing Service Bulletin Information Notice (IN) MD11-28A124 IN 01, dated October 1, 2009, be referenced in the original NPRM as an approved deviation from Boeing Alert Service Bulletin MD11-28A124, dated June 17, 2009. FedEx stated that, as the original NPRM is written, the compliance requirements will prevent FedEx from complying with the original NPRM unless an alternative method of compliance (AMOC) is granted.

We partially agree. Since the issuance of the original NPRM, Boeing has issued Alert Service Bulletin MD11-28A124, Revision 1, dated August 24, 2010, to incorporate the changes outlined in Boeing Service Bulletin IN MD11-28A124 IN 01, dated October 1, 2009. The revised service bulletin clarifies work instructions and screw length requirements. As stated previously, we have changed paragraphs (c), (g), and (h) of this supplemental NPRM to refer to Boeing Alert Service Bulletin MD11-28A124, Revision 1, dated August 24, 2010.

Request To Change Wording in Paragraphs (g)(1) and (g)(2)

Boeing requested that the wording in paragraphs (g)(1) and (g)(2) of the original NPRM be changed to include the installation of hardware. Boeing stated that the original NPRM implies that only wiring changes would be required; installation of brackets and supporting hardware, however, are required in addition to the wiring changes.

We agree. The installation of brackets and supporting hardware is required in addition to the wiring changes. We have revised paragraphs (g)(1) and (g)(2) of this supplemental NPRM to include the installation of a wire assembly support bracket, routing wire assembly, and a wire protection bracket.

Additional Changes

We have revised the Estimated Costs table to include the cost of the new inspection and wire support change required in paragraphs (h) and (i) of this supplemental NPRM, as well as to specify the on-condition costs that might be incurred.

FAA's Determination

We are proposing this supplemental NPRM because we evaluated all the relevant information and determined the unsafe condition described previously is likely to exist or develop in other products of these same type designs. Certain changes described above expand the scope of the original NPRM. As a result, we have determined that it is necessary to reopen the comment period to provide additional opportunity for the public to comment on this supplemental NPRM.

Proposed Requirements of the Supplemental NPRM

This supplemental NPRM would require accomplishing the actions specified in the service information described previously.

Costs of Compliance

We estimate that this proposed AD will affect 110 airplanes of U.S. registry.

We estimate the following costs to comply with this proposed AD:

Estimated Costs
Action | Labor cost | Parts cost | Cost per product | Cost on U.S. operators
Inspection of tail tank fuel system wire assembly | 1 work-hour × $85 per hour = $85 | $0 | $85 | $9,350.
Inspection of electrical insulation tape | 1 work-hour × $85 per hour = $85 | 0 | 85 | $9,350.
Change wire supports | 3 work-hours × $85 per hour = $255 | 9 | 264 | Up to $29,040.

We estimate the following costs to do any necessary installations and repairs that would be required based on the results of the proposed inspection. We have no way of determining the number of aircraft that might need these installations and repairs.

On-Condition Costs
Action | Labor cost | Parts cost | Cost per product
Installation/repair | Up to 23 work-hours × $85 per hour = $1,955 | $11,829 | Up to $13,784.
Adjust tape installation | 1 × $85 per hour = $85 | 0 | $85.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas Corporation: Docket No. FAA-2010-0228; Directorate Identifier 2009-NM-252-AD.

Comments Due Date

(a) We must receive comments by December 13, 2010.

Affected ADs

(b) None.

Applicability

(c) This AD applies to McDonnell Douglas Corporation Model MD-11 and MD-11F airplanes, certificated in any category, as identified in Boeing Alert Service Bulletin MD11-28A124, Revision 1, dated August 24, 2010.

Subject

(d) Joint Aircraft System Component (JASC)/Air Transport Association (ATA) of America Code 28: Fuel.

Unsafe Condition

(e) This AD was prompted by fuel system reviews conducted by the manufacturer. We are issuing this AD to detect and correct a potential of ignition sources inside fuel tanks, which, in combination with flammable vapors, could result in a fuel tank fire or explosion, and consequent loss of the airplane.

Compliance

(f) Comply with this AD within the compliance times specified, unless already done.

Action

(g) For airplanes in Group 1, Configuration 1; and Group 2, Configuration 1: Within 60 months after the effective date of this AD, perform a general visual inspection to detect damage of wire assemblies of the tail tank fuel system, in accordance with the Accomplishment Instructions of Boeing Alert Service Bulletin MD11-28A124, Revision 1, dated August 24, 2010.

(1) For airplanes in Group 1, Configuration 1: If no damage is found, before further flight, apply self-adhering high-temperature electrical insulation tape on the wire assemblies, install wire assembly support brackets, route wire assemblies, install extruded channel wire supports, and install a wire protection bracket, in accordance with the Accomplishment Instructions of Boeing Alert Service Bulletin MD11-28A124, Revision 1, dated August 24, 2010.

(2) For airplanes in Group 1, Configuration 1: If damage is found, before further flight, repair or replace the wire assemblies, apply self-adhering high-temperature electrical insulation tape on the wire assemblies, install wire assembly support brackets, route wire assemblies, install extruded channel wire supports, and install a wire protection bracket, in accordance with the Accomplishment Instructions of Boeing Alert Service Bulletin MD11-28A124, Revision 1, dated August 24, 2010.

(3) For airplanes in Group 2, Configuration 1: If no damage is found, before further flight, install wire assembly support brackets, route wire assemblies, install extruded channel wire supports, and install a wire protection bracket, in accordance with the Accomplishment Instructions of Boeing Alert Service Bulletin MD11-28A124, Revision 1, dated August 24, 2010.

(4) For airplanes in Group 2, Configuration 1: If damage is found, before further flight, repair or replace wire assembly, install wire assembly support brackets, route wire assemblies, install extruded channel wire supports, and install a wire protection bracket, in accordance with the Accomplishment Instructions of Boeing Alert Service Bulletin MD11-28A124, Revision 1, dated August 24, 2010.

(h) For airplanes in Group 1, Configuration 2: Within 60 months after the effective date of this AD, do a general visual inspection for correct installation of the self-adhering high-temperature electrical insulation tape, and change the wire supports, in accordance with the Accomplishment Instructions of Boeing Alert Service Bulletin MD11-28A124, Revision 1, dated August 24, 2010. If the self-adhering high-temperature electrical insulation tape is installed incorrectly, before further flight, adjust the tape installation to achieve the correct dimensions, in accordance with Figure 1 of Boeing Alert Service Bulletin MD11-28A124, Revision 1, dated August 24, 2010.

(i) For airplanes in Group 2, Configuration 2: Within 60 months after the effective date of this AD, change the wire supports, in accordance with Figure 2 of Boeing Alert Service Bulletin MD11-28A124, Revision 1, dated August 24, 2010.

Alternative Methods of Compliance (AMOCs)

(j)(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(k) For more information about this AD, contact Serj Harutunian, Aerospace Engineer, Propulsion Branch, ANM-140L, FAA, Los Angeles Aircraft Certification Office, 3960 Paramount Boulevard, Lakewood, California 90712-4137; telephone (562) 627-5254; fax (562) 627-5210; e-mail: Serj.Harutunian@faa.gov.

(l) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221.

Issued in Renton, Washington, on November 5, 2010.
Jeffrey E. Duven,
Acting Manager, Transport Airplane Directorate, Aircraft Certification Service.

[FR Doc. 2010-28937 Filed 11-16-10; 8:45 am]

BILLING CODE 4910-13-P